DEPARTMENT OF VETERANS AFFAIRS

[OMB Control No. 2900-NEW]

Proposed Information Collection; Patient Aligned Care Team (PACT) Telehealth in the Parkinson's Disease Research, Education & Clinical Center (PADRECC), Healthcare Experiences of Patients With Congestive Heart Failure (CHF)

AGENCY: Veterans Health Administration, Department of Veterans Affairs.

ACTION: Notice.

ACTIVITY: Under OMB Review.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each new collection, and allow 60 days for public comment in response to the notice. This notice solicits comments on the information needed to evaluate the project aims to enhance PACT implementation by evaluating the effects of the VA PACT initiative and by test new, innovative strategies for patient care that can be spread if proven effective.

DATES: Written comments and recommendations on the proposed collection of information should be received on or before August 24, 2015.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-NEW (Patient Aligned Care Team (PACT) Telehealth in the Parkinson's Disease Research, Education & Clinical Center (PADRECC), Healthcare Experiences of Patients with Congestive Heart Failure (CHF))” in any correspondence. During the comment period, comments may be viewed online through the FDMS.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-NEW (Patient Aligned Care Team (PACT) Telehealth in the Parkinson's Disease Research, Education & Clinical Center (PADRECC), Healthcare Experiences of Patients with Congestive Heart Failure (CHF))” in any correspondence.

SUPPLEMENTARY INFORMATION: Under the PRA of 1995 (Pub. L. 104-13; 44 U.S.C. 3501-3521), Federal agencies must obtain approval from the Office of Management and Budget (OMB) for each collection of information they conduct or sponsor. This request for comment is being made pursuant to section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles: PACT Telehealth in the PADRECC, Healthcare Experiences of Patients with CHF, VA Forms 10-10135a, 10-10135b, 10-10135c, 10-10135d, 10-10136, 10-10137

OMB Control Number: 2900-NEW.

Type of Review: New data collection.

Abstract The Office of Patient Care Services, Primary Care Program Office, has undertaken an initiative to implement a patient-centered medical home model at all Veterans Health Administration (VHA) Ambulatory Primary Care sites. In addition to the VHA's Universal Health Care Services implementation of the Patient Aligned Care Team (PACT), Patient Care Services has funded 5 PACT Demonstration Laboratories across the country.

Focus Group Survey

Affected Public: Individuals or households.

Estimated Annual Burden: 20 hours.

Estimated Average Burden per Respondent: 10 minutes.

Frequency of Response: Once annually.

Estimated Number of Respondents: 40.

10-10135a (GDS)

Affected Public: Individuals or households.

Estimated Annual Burden: 35 hours.

Estimated Average Burden per Respondent: 7 minutes.

Frequency of Response: Once annually.

Estimated Number of Respondents: 100.

10-10135b (PDQ-8)

Affected Public: Individuals or households.

Estimated Annual Burden: 35 hours.

Estimated Average Burden per Respondent: 7 minutes.

Frequency of Response: Once annually.

Estimated Number of Respondents: 100.

10-10135(c) Cost & Patient Outcomes

Affected Public: Individuals or households.

Estimated Annual Burden: 35 hours.

Estimated Average Burden per Respondent: 7 minutes.

Frequency of Response: Once annually.

Estimated Number of Respondents: 100.

10135(d) Patient Assessment of Communication During Telehealth

Affected Public: Individuals or households.

Estimated Annual Burden: 35 hours.

Estimated Average Burden per Respondent: 7 minutes.

Frequency of Response: Once annually.

Estimated Number of Respondents: 100.

An agency may not conduct or sponsor, and a person is not required to respond to a collection of information unless it displays a currently valid OMB control number. The Federal Register Notice with a 60-day comment period soliciting comments on this collection of information was published at 79 FR 72249, December 5, 2015.

By direction of the Secretary.
Kathleen M. Manwell,
Program Analyst, VA Privacy Service, Office of Privacy and Records Management, Department of Veterans Affairs.

[FR Doc. 2015-18171 Filed 7-23-15; 8:45 am]

BILLING CODE 8320-01-P